ENVIRONMENTAL PROTECTION AGENCY

[EPA-HQ-OPPT-2023-0606; FRL-11581-04-OCSPP]

Public Engagement Webinars; Pre-Prioritization and Consideration of Existing Chemical Substances for Future Prioritization Under the Toxic Substances Control Act (TSCA)

AGENCY: Environmental Protection Agency (EPA).

ACTION: Notice.

SUMMARY: The Environmental Protection Agency (EPA or Agency) is announcing the scheduling of two virtual public meetings to provide information regarding existing chemical pre-prioritization and prioritization activities under the Toxic Substances Control Act (TSCA). Prioritization is the initial step in the process of evaluating existing chemicals under TSCA and implementing regulations. The purpose of prioritization is to designate a chemical substance as being either high priority for immediate further risk evaluation, or low priority, for which risk evaluation is not warranted at the time. The webinars will take place on two separate days, but the content presented at each meeting will be identical. EPA will explain the prioritization process and provide an overview of information that may be used to inform the considerations that ultimately support a High- or Low-Priority Substance designation, such as information on conditions of use and health effects resulting from exposure to the chemicals of interest. In addition, the list of candidate chemical substances currently being considered for future prioritization actions will be presented for stakeholders to comment on the data and scientific research available that may be used to help EPA determine which chemical substances may undergo prioritization in the near term. EPA is committed to engaging with the public to identify potentially relevant information on chemical substances being considered for future prioritization actions during pre-prioritization timeframes.

DATES:

Webinars: Monday, September 30, 2024, (2 p.m.-4 p.m. ET), and Tuesday, October 1, 2024 (10 a.m.-12 p.m. ET).

Registration: You must register on or before September 25, 2024, to receive the webcast meeting link and audio teleconference information before the meeting, and to make oral comments during the meeting.

Special accommodations: Submit requests for special accommodations on or before September 13, 2024, to allow EPA time to process the request before the meeting.

Oral comments: To provide an oral comment during the webinar, register on or before September 25, 2024.

Written comments: Following the public webinars, written comments may be submitted during a 30-day public comment period that will open following the second public webinar on October 1, 2024.

ADDRESSES:

Webinar: Register online for each webinar as follows:

• For the webinar on Monday, September 30, 2024, register at: https://usepa.zoomgov.com/meeting/register/vJItduuoqzgvH1QTU561mR9PaHoG91WhfnA;

• For the webinar on Tuesday, October 1, 2024, register at: https://usepa.zoomgov.com/meeting/register/vJIsfCrrzMqHJshuXmH7qTusPv-lURNA4M.

Special Accommodations: Please submit these requests to the person listed under FOR FURTHER INFORMATION CONTACT.

Oral comments: Register with the person listed under FOR FURTHER INFORMATION CONTACT.

Written comments: Submit written comments, identified by docket identification (ID) number EPA-HQ-OPPT-2023-0606, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Sarah Soliman, Office of Pollution Prevention and Toxics (7201M), Office of Chemical Safety and Pollution Prevention (OCSPP), Environmental Protection Agency, 1200 Pennsylvania Ave. NW, Washington, DC 20460-0001; telephone number: (202) 748-0251 email address: soliman.sarah@epa.gov.

SUPPLEMENTARY INFORMATION:

I. Executive Summary

A. Does this action apply to me?

This action is directed to the public in general and may be of interest to entities that may manufacture (including import) a chemical substance regulated under TSCA (e.g., entities identified under North American Industrial Classification System (NAICS) codes 325 and 324110). The action may also be of interest to chemical processors, distributors in commerce, users, non-profit organizations in the environmental and public health sectors, state and local government agencies, and members of the public. Since other entities may also be interested, the Agency has not attempted to describe all the specific entities and corresponding NAICS codes for entities that may be interested in or affected by this action.

B. What is the Agency's authority for taking this action?

TSCA section 6, 15 U.S.C. 2605, requires EPA to evaluate existing chemicals via a three-stage process. The three stages of EPA's process for existing chemicals are prioritization, risk evaluation, and risk management. See also the implementing procedural regulations at 40 CFR part 702. For more information about the TSCA risk evaluation process for existing chemicals, go to https://www.epa.gov/assessing-and-managing-chemicals-under-tsca.

C. What action is the agency taking?

EPA is announcing the scheduling of two virtual public meetings to provide information regarding existing chemical pre-prioritization and prioritization activities under TSCA. Prioritization is the initial step in the process of evaluating existing chemicals under TSCA and implementing regulations. The purpose of prioritization is to designate a chemical substance as being either high priority for immediate further risk evaluation, or low priority, for which risk evaluation is not warranted at the time. The webinars will take place on two separate days, but the content presented at each meeting will be identical. EPA will explain the prioritization process and provide an overview of information that may be used to inform the considerations that ultimately support a High- or Low-Priority Substance designation, such as information on conditions of use and health effects resulting from exposure to the chemicals of interest. In addition, the list of candidate chemical substances currently being considered for future prioritization actions will be presented for stakeholders to comment on the data and scientific research available that may be used to help EPA determine which chemical substances may undergo prioritization in the near term.

D. Why is the Agency taking this action?

EPA is committed to engaging with the public to identify potentially relevant information on chemical substances being considered for future prioritization actions during pre-prioritization timeframes. This action is intended to increase transparency in the TSCA prioritization process by encouraging public engagement in earlier activities.

EPA values broad external input, which is critical to the prioritization process. EPA is committed to developing a sustainable program where information is continually collected by the Agency on chemicals of interest so that prioritization occurs on an annual basis to replace High-Priority Substances for which EPA has completed risk evaluations. Information provided during and following these public meetings will inform EPA's determination regarding whether chemical substances have sufficient information to support either a High- or Low Priority Substance designation during prioritization or a risk evaluation, should a chemical substance be designated as a High-Priority Substance during prioritization.

E. What is the purpose of the pre-prioritization and prioritization phases?

Pre-prioritization represents the Agency's commitment to fostering a transparent collaborative effort with the public by allowing stakeholders to engage with EPA on its list of potential prioritization candidates; learn about the type of information EPA seeks to support the proposed and final designations as either High- or Low-Priority Substances; and how stakeholders can provide that information.

Prioritization is the initial step in the process of evaluating existing chemicals under TSCA section 6(b) and implementing regulations at 40 CFR part 702. The purpose of prioritization is to designate a chemical substance as either high priority for immediate further risk evaluation, or low priority, for which risk evaluation is not warranted at the time.

To identify candidates for the prioritization process, TSCA requires that at least 50 percent of all chemical substances on which risk evaluations are being conducted by the Administrator are drawn from the TSCA Work Plan for Chemical Assessments: 2014 Update available at: https://www.epa.gov/assessing-and-managing-chemicals-under-tsca/tsca-work-plan-chemical-assessments-2014-update, until that list has been exhausted. EPA also gives preference to chemical substances from the TSCA Work Plan chemicals with the following characteristics:

• Persistence and bioaccumulation scores of three; and

• Known human carcinogens, and high acute or chronic toxicity.

Aside from these statutory directions, EPA has discretion to determine which chemical substances will undergo prioritization.

II. Virtual Public Meetings

A. What is the planned agenda for the meetings?

EPA is announcing its intention to hold virtual public meetings on September 30 and October 1, 2024, to seek individual input from the public on the proposed efforts regarding pre-prioritization and the consideration of existing chemical substances for future prioritization actions under the TSCA. The virtual public meetings will take place on two separate days, but the content presented at each meeting will be identical. EPA intends to explain the prioritization process and provide an overview of information that may be used to inform the considerations that ultimately support a High- or Low-Priority Substance designation, such as information on conditions of use and health effects resulting from exposure to the chemicals of interest. In addition, the Agency intends to share the list of candidate chemical substances currently being considered for future prioritization actions, along with relevant information available to EPA, and intends to open a comment period to provide an opportunity for stakeholders to comment on the data and scientific research available that may be used to help EPA determine which chemical substances may undergo prioritization in the near term.

Following EPA's presentation during the public webinars, interested persons will have opportunities to provide feedback and/or potentially relevant information regarding the prioritization efforts, with priority given to those who registered for oral comments. Instructions on registering for the public meetings and contacting EPA to communicate an interest in providing an oral comment are detailed in this document.

B. How can I participate the virtual public meetings?

The public meetings are virtual and will be accessible via webcast. To receive a virtual meeting link via email, use the public virtual meeting respective registration links provided under ADDRESSES, and be sure to register by the deadline under DATES. A virtual meeting link will be sent via email to persons who register. EPA will make every effort to present the information and allow for as many entities as possible to provide a brief oral comment within the allotted time on the day of the webinar, but please plan for the webinars to run either ahead of or behind schedule.

Following EPA's presentation during the public webinars, interested persons will have opportunities to provide comments and/or potentially relevant information regarding upcoming prioritization efforts. You will also have the opportunity to provide written comments to the docket after the public meetings. Instructions on registering to attend or present at the public meetings, and to submit written comments following the virtual public meetings are detailed under DATES and ADDRESSES.

Each individual or group wishing to make brief oral comments during the virtual public meetings should first register for the public meetings, and then also email their request to make oral comments with their name, affiliation, and contact information, to the person listed under FOR FURTHER INFORMATION CONTACT. Interested persons who have registered to provide a comment during the public meeting will each have approximately three minutes to do so. EPA also encourages you to submit a written copy of their oral comments to the docket.

Written statements and supporting information submitted to the docket during the comment period will be considered with the same weight as oral comments and supporting information presented at the public meeting.

C. How can I access the materials shared at the meeting?

After the conclusion of the webinar on October 1, 2024, the material presented at the webinars, including the EPA presentation, the list of candidate chemical substances currently being considered for future prioritization actions, and related supporting information about those chemicals will be added to the docket, along with other materials provided by participants or that may become available. In addition, after the meetings, EPA intends to prepare meeting minutes summarizing the individual comments received at the meetings, which will be added to the docket as soon as they are available.

D. What should I consider as I prepare my comments for EPA?

1. Submitting CBI. Do not submit CBI information to EPA through https://www.regulations.gov or email. If you wish to include CBI in your comment, please follow the applicable instructions at https://www.epa.gov/dockets/commenting-epa-dockets#rules and clearly mark the part or all of the information that you claim to be CBI. In addition to one complete version of the comment that includes information claimed as CBI, a copy of the comment that does not contain the information claimed as CBI must be submitted for inclusion in the public docket. Information so marked will not be disclosed except in accordance with procedures set forth in 40 CFR part 2 and/or 40 CFR part 703, as applicable.

2. Tips for preparing your comments. When preparing and submitting your comments, see Tips for Effective Comments at https://www.epa.gov/dockets/commenting-epa-dockets#tips.

3. Multimedia submissions. Multimedia submissions (audio, video, etc.) must be accompanied by a written comment. The written comment is considered the official comment and should include discussion of all points you wish to make. The EPA will generally not consider comments or comment contents located outside of the primary submission (i.e., on the web, cloud, or other file sharing systems).

Please note that any updates made to any aspect of the webinar will be communicated with a document being added to the docket. While EPA expects the webinar to go forward as set forth above, please monitor our website, https://www.epa.gov/assessing-and-managing-chemicals-under-tsca/us-epa-webinar-next-round-chemicals-substances-being, or see the person listed under FOR FURTHER INFORMATION CONTACT to determine if there are any updates. EPA does not intend to publish update announcements in this action.

Authority: 15 U.S.C. 2601 et seq.

Dated: August 22, 2024.
Michal Freedhoff,
Assistant Administrator, Office of Chemical Safety and Pollution Prevention.

[FR Doc. 2024-19305 Filed 8-27-24; 8:45 am]

BILLING CODE 6560-50-P